DEPARTMENT OF AGRICULTURE

Office of the Secretary

Commission on 21st Century Production Agriculture

AGENCY: Commission on 21st Century Production Agriculture, USDA.

ACTION: Notice of meeting.

SUMMARY: The U.S. Department of Agriculture (USDA) has established the Commission on 21st Century Production Agriculture. In accordance with Section 10(a)(2) of the Federal Advisory Committee Act (FACA), notice is hereby given of a meeting in March of the Commission on 21st Century Production Agriculture. The purpose of this meeting will be to address issues regarding trade. This meeting is open to the public.

PLACE, DATE, AND TIME OF MEETINGS: This meeting will be held from 9 AM EST until 5 PM EST on March 7, 2000 in Room 108-A, Jamie L. Whitten Federal Building, U.S. Department of Agriculture, 1400 Independence Avenue, SW, Washington, D.C. 20250-3810.

FOR FURTHER INFORMATION CONTACT: Timothy M. Peters (202-720-4860), Assistant Director, Commission on 21st Century Production Agriculture, Room 3702 South Building, 1400 Independence Avenue, SW, Washington, DC 20250-0524.

Dated: February 15, 2000.
Keith J. Collins,
Chief Economist.

[FR Doc. 00-4031 Filed 2-25-00; 8:45 am]

BILLING CODE 3410-01-M